DEPARTMENT OF DEFENSE

Department of the Army; Corps of Engineers

Intent To Prepare a Draft Programmatic Environmental Impact Statement for the Upper Mississippi and Illinois Rivers Comprehensive Plan

AGENCY: Department of the Army, U.S. Army Corps of Engineers, DoD.

ACTION: Notice of intent.

SUMMARY: The U.S. Army Corps of Engineers (Corps) is preparing a Draft Programmatic Environmental Impact Statement (EIS) for the Upper Mississippi River Comprehensive Plan to identify problems, opportunities, and potential measures to reduce flood damages in the floodplains of the Upper Mississippi and Illinois Rivers. A Programmatic EIS will be prepared to address potential effects of any recommendations for further action resulting from this study effort, and to provide a broad review of general issues for incorporation by reference in subsequent National Environmental Policy Act (NEPA) documents, if future actions are undertaken as a result of recommendations in the Comprehensive Plan.

FOR FURTHER INFORMATION CONTACT: Questions about the proposed action and Draft Programmatic EIS can be answered by: David R. Gates, U.S. Army Corps of Engineers, St. Louis District (CEMVS-PM-F), 1222 Spruce Street, St. Louis, MO 63103, telephone (314) 331-8478, or by Charlene Carmack, U.S. Army Corps of Engineeers, Rock Island District (CEMVR-PM-A), Clock Tower Building, P.O. Box 2004, Rock Island, IL 61204-2004, telephone (309) 794-5570.

SUPPLEMENTARY INFORMATION: 1. Section 459 of the Water Resources Development Act of 1999 directed the Secretary of the Army to develop a plan to address water resource and related land resource problems in the study area in the interest of systemic flood damage reduction. Section 459 also directed the Secretary to submit a report to Congress detailing the results of this planning effort and addressing recommendations for authorization of further Federal actions or follow-on studies concerning systemic flood control.

The Comprehensive Plan will be developed as a collaborative effort among three Corps Districts (St. Paul, Rock Island, and St. Louis); other Federal agencies (including the Federal Emergency Management Agency [FEMA], the U.S. Fish and Wildlife Service [USFWS], the Natural Resources Conservation Service (NRCS), the U.S. Environmental Protection Agency [USEPA], the U.S. Geological Survey [USGS], and the U.S. Department of Agriculture [USDA]); the States of Illinois, Iowa, Minnesota, Missouri, and Wisconsin; and appropriate non-Federal organizations. The plan will identify future management actions and make recommendations for systemic improvements that provide flood damage reduction and associated environmental benefits.

The Comprehensive Plan will include recommendations addressing: (1) Construction of a systemic multipurpose water resources and flood management/damage reduction project; (2) floodplain management alternatives; and (3) follow-on design and construction requirements. This plan will include overall systemic recommendations, not optimized recommendations for specific sites. Follow-on implementation studies, including NEPA documentation, would be necessary at specific sites where additional analysis is required to develop the National Economic Development (NED) plan. Site-specific NEPA documentation would be tiered from the Programmatic EIS currently in preparation and would be developed in association with follow-on implementation studies, preconstruction engineering and design (PED).

2. Alternatives, including both structural and nonstructural measures, will be identified and investigated for their potential to accomplish systemic flood damage reduction. It is anticipated that between three to five systemic flood damage reduction alternatives will be formated and evaluated for their potential to contribute to National Ecosystem Development.

3. Scoping: This notice solicits input and assistance from the interested public and invites participation by affected Federal and State agencies having special jurisdiction and/or expertise.

An initial set of public meetings (open house format) was held September 9-12 in St. Louis, MO; Quincy, IL; Peoria, IL; and Dubuque, IA. These meetings were announced in mailed newsletters (also posted on the study Web site http://www.mvr.usace.army.mil/UMRCP/) as scoping meetings intended to help fulfill the scoping requirements of the NEPA, as well as overall study scoping requirements.

4. The scoping process is expected to continue through December 2002 to facilitate early input to the NEPA process and identify significant issues to be evaluated in depth in the Programmatic EIS.

5. Based on current study schedules, the Draft Programmatic EIS is anticipated to be available for public review late in the first quarter of Calendar Year 2004.

Dated: October 25, 2002.
William J. Bayles,
Colonel, EN, Commanding.

[FR Doc. 02-31452 Filed 12-12-02; 8:45 am]

BILLING CODE 3710-HV-M